DEPARTMENT OF TRANSPORTATION

Federal Highway Administration

[4910-RY]

Notice of Final Federal Agency Actions on the New York I-87 Access Improvement Project, Albany County, New York

AGENCY: Federal Highway Administration (FHWA), New York State Department of Transportation (NYSDOT).

ACTION: Notice of Limitation on Claims for Judicial Review of Actions by FHWA and Other Federal Agencies.

SUMMARY: This notice announces actions taken by the FHWA and other Federal agencies that are final within the meaning of 23 U.S.C. 139(l)(1). The actions relate to the New York: I-87 Access Improvement Project. Those actions grant approvals for the project.

DATES: By this notice, the FHWA is advising the public of final agency actions subject to 23 U.S.C. 139(l)(1). A claim seeking judicial review of the Federal agency actions on the highway project will be barred unless the claim is filed on or before April 16, 2015. If the Federal law that authorizes judicial review of a claim provides a time period of less than 150 days for filing such claim, then that shorter time period still applies.

FOR FURTHER INFORMATION CONTACT: Jonathan D. McDade, Division Administrator, Federal Highway Administration, Leo W. O'Brien Federal Building, Albany, New York 12207, Telephone (518) 431-4127.

SUPPLEMENTARY INFORMATION: Notice is hereby given that the FHWA and other Federal agencies have taken final agency actions by issuing approvals for the following highway project in the State of New York: I-87 Access Improvement Project, Town of Colonie, Albany County, New York. The New York I-87 Access Improvement Project will consist of the construction of new Exit 4 ramps to complement the existing Exit 4 interchange, construction of new ramps to connect I-87 NB and SB to Albany-Shaker Road, replacement of the I-87 bridges over Albany-Shaker Road; removal of the existing Exit 4 SB Exit Ramp, existing SB C-D road between Exit 5 and Exit 4, and the Exit 4 SB Entrance Ramp; replacement of the existing Exit 5 SB Entrance Ramp; pavement widening on I-87 NB to construct an auxiliary lane between the existing Exit 4 NB Exit Ramp and Exit 5 NB Exit Ramp, and pavement widening and restriping for additional turn lanes and medians on Albany-Shaker Road.

The actions by the Federal agencies, and the laws under which such actions were taken, are described in the FHWA Final Environmental Impact Statement (FEIS) for the project, approved by FHWA in the Record of Decision (ROD) issued on September 15, 2014, and in other documents in the FHWA administrative record. The FEIS, ROD, and other documents in the FHWA administrative record file are available by contacting the FHWA at the addresses provided above. The FEIS and ROD can be viewed and downloaded from the project Web site at http://www.dot.ny.gov/i87exit4.

This notice applies to all Federal agency decisions as of the issuance date of this notice and all laws under which such actions were taken, including but not limited to:

1. General: National Environmental Policy Act (42 U.S.C. 4321-4355); Federal-Aid Highway Act (23 U.S.C. 109); Economic, social, and environmental effects (23 U.S.C. 109(h)); Uniform Relocation Assistance and Real Property Acquisition Act of 1970 (42 U.S.C. 4601); Public Hearings (23 U.S.C. 128).

2. Air: Clean Air Act (23 U.S.C. 109(j), 42 U.S.C. 7521(a)).

3. Noise: Standards [23 U.S.C. 109(i)].

4. Land: Section 4(f) of the Department of Transportation Act of 1966 (49 U.S.C. 303).

5. Wildlife: Endangered Species Act (16 U.S.C. 1531-1544 and Section 1536), Fish and Wildlife Coordination Act (16 U.S.C. 661-667(d)), Migratory Bird Treaty Act (16 U.S.C. 703-712).

6. Historic and Cultural Resources: Section 106 of the National Historic Preservation Act of 1966, as amended (16 U.S.C. 470(f) et seq.); Archeological Resources Protection Act of 1977 (16 U.S.C. 470(aa)-11); Archeological and Historic Preservation Act (16 U.S.C. 469-469(c)); Native American Grave Protection and Repatriation Act (25 U.S.C. 3001-3013).

7. Social and Economic: Civil Rights Act of 1964 (42 U.S.C. 2000(d)-2000(d)(1)); American Indian Religious Freedom Act (42 U.S.C. 1996).

8. Wetlands and Water Resources: Safe Drinking Water Act (42 U.S.C. 300(f)-300(j)(6)); Federal Water Pollution Control Act of 1972, as amended by the Clean Water Act of 1977 & 1987 (33 U.S.C. 1251-1376).

9. Hazardous Materials: Comprehensive Environmental Response, Compensation, and Liability Act (42 U.S.C. 9601-9675).

10. Executive Orders: E.O. 11990 Protection of Wetlands; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: October 30, 2014.
Jonathan D. McDade,
Division Administrator, Albany, NY.

[FR Doc. 2014-27106 Filed 11-14-14; 8:45 am]

BILLING CODE 4910-22-P